DEPARTMENT OF COMMERCE

National Oceanic and Atmospheric Administration

RIN 0648-XF718

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) Salmon Technical Team (STT) and Science and Statistical salmon subcommittee (SSC-Salmon) will hold a joint one-day methodology review meeting via webinar, which is open to the public.

DATES: The webinar meeting will be held on Tuesday, October 17, 2017, from 10 a.m. until 5 p.m. or until business for the day has been completed.

ADDRESSES: The meeting will be held via webinar. To attend the webinar (1) join the meeting by visiting this link https://www.gotomeeting.com/webinar, (2) enter the Webinar ID: 900-513-115, and (3) enter your name and email address (required). After logging in to the webinar, please (1) dial this TOLL number 1-562-247-8321 (not a toll-free number), (2) enter the attendee phone audio access code 396-645-679, and (3) then enter your audio phone pin (shown after joining the webinar). NOTE: We have disabled Mic/Speakers as an option and require all participants to use a telephone or cell phone to participate. Technical Information and system requirements: PC-based attendees are required to use Windows® 7, Vista, or XP; Mac®-based attendees are required to use Mac OS® X 10.5 or newer; Mobile attendees are required to use iPhone®, iPad®, Android™ phone or Android tablet (See the GoToMehyeting WebinarApps). You may send an email to Mr. Kris Kleinschmidt at Kris.Kleinschmidt@noaa.gov or contact him at 503-820-2280, extension 411 for technical assistance. A public listening station is available at the Pacific Council office (address below).

Council address: Pacific Fishery Management Council, 7700 NE Ambassador Place, Suite 101, Portland, OR 97220.

FOR FURTHER INFORMATION CONTACT: Ms. Robin Ehlke, Pacific Council; telephone: (503) 820-2410.

SUPPLEMENTARY INFORMATION: The purpose of the methodology review meeting is to discuss and review proposed changes to analytical methods used in salmon management. Results and recommendations from this methodology review meeting will be presented at the November 14-20, 2017, Council meeting in Costa Mesa, CA where the Council is scheduled to take final action on the proposals. At the September 2017 meeting, the Council adopted one topic for consideration at the methodology review meeting. The topic under review is: Technical Revision to the Marine Survival Index of the Oregon Coastal Natural Coho Work Group Harvest Matrix. Public comments during the webinar will be received from attendees at the discretion of the chairs of the STT and SSC-Salmon.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt (503) 820-2411 at least 10 business days prior to the meeting date.

Dated: September 28, 2017.
Tracey L. Thompson,
Acting Deputy Director, Office of Sustainable Fisheries, National Marine Fisheries Service.

[FR Doc. 2017-21178 Filed 10-2-17; 8:45 am]

BILLING CODE 3510-22-P